DEPARTMENT OF HOUSING AND URBAN DEVELOPMENT

[Docket No. FR-5191-N-31]

Notice of Proposed Information Collection: Comment Request; Home Equity Conversion Mortgage Counseling Client Survey

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: December 1, 2008.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_Deitzer@hud.gov .

FOR FURTHER INFORMATION CONTACT: Betsy Cromwell, Office of Single Family Program Support Division, Department of Housing and Urban Development, 451 7th Street, SW., Washington, DC 20410, telephone (202) 708-4465 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Home Equity Conversion Mortgage Counseling Client Survey.

OMB Control Number, if applicable: 2502-NEW.

Description of the need for the information and proposed use: As a condition of eligibility to receive a Home Equity Conversion Mortgage (HECM), consumers must participate in reverse mortgage counseling. As part of HUD's evaluation of its HECM counseling program, performance reviews are conducted at the HUD-approved counseling agencies by HUD staff. HUD staff mails or e-mails, when an e-mail address is available, the HECM client survey to consumers who have recently received counseling through the agency. This survey is completed by the consumer and mailed or e-mailed back to HUD. It provides valuable feedback to HUD regarding customer service and counseling quality provided by the HECM counseling agency being reviewed. HUD uses this information to evaluate the counseling agency and, further, to make any policy or procedural changes as necessary.

Agency form numbers, if applicable: HUD-92911.

Estimation of the total number of hours needed to prepare the information collection including number of respondents, frequency of response, and hours of response: The estimated total number of hours needed to prepare the information collection is 84, the number of respondents is 500 generating approximately 500 annual responses; the frequency of response is on occasion; and the estimated time needed to prepare the response varies from 10 minutes to 20 minutes.

Status of the proposed information collection: This is new information collection.

Authority: The Paperwork Reduction Act of 1995, 44 U.S.C., Chapter 35, as amended.

Dated: September 24, 2008.
Ronald Y. Spraker,
Acting General Deputy Assistant Secretary for Housing, Deputy Federal Housing Commissioner.

[FR Doc. E8-23209 Filed 10-1-08; 8:45 am]

BILLING CODE 4210-27-P